DEPARTMENT OF STATE

[Public Notice 4129]

Privacy Act of 1974; System of Records:

AGENCY: Office of Inspector General, Department of State.

ACTION: Public Notice.

SUMMARY: Notice is hereby given that the Department of State proposes to establish a new system of records, titled “Office of Inspector General Timesheet System.” The records contained in this system will consist of documentation of employee time spent on daily activities. The system description is set forth below.

ADDRESSES: Office of Inspector General (OIG), U.S. Department of State, 2201 C Street, NW., Washington, DC 20520 and SA-39 1700 N. Lynn Street, Rosslyn, Virginia 22209.

FOR FURTHER INFORMATION CONTACT: Harrell K. Fuller, Director of Administration, U.S. Department of State, Office of Inspector General, (703) 284-2708.

SUPPLEMENTARY INFORMATION: Notice is hereby given that the Department of State proposes to establish a new system of records pursuant to the provisions of the Privacy Act of 1974, as amended, and the Office of Management and Budget Circular A-108, Transmittal Memorandum No. 1, dated September 30, 1975 (40 FR 45877, October 3, 1975). The new system of records is titled “Office of Inspector General Timesheet System.” The records contained in this system will consist of documentation of employee time spent on daily activities. The records in this system will consist of the employee's name, salary, leave, and timesheets. The system will be used by the OIG as an online tool by management to generate reports on the cost of time spent on projects, training, and management. The system also may be used by the Office of Inspector General's Project Tracking System (PTS) for projects tracked by PTS.

The new system description, “Office of Inspector General Timesheet System, STATE-67,” will read as set forth below.

STATE-67

System Name:

Office of Inspector General (OIG) Timesheet System.

Security Classification:

Unclassified.

System Location:

Office of Inspector General (OIG), U.S. Department of State, 2201 C Street, NW., Washington, DC 20520, SA-39 1700 N. Lynn Street, Rosslyn, Virginia 22209.

Categories of Individuals Covered by the System:

All OIG employees of the Department of State, including the Inspector General and Deputy Inspector General.

Categories of Records in the System:

Employee's name; annual salary; hourly rate; leave use; employee timesheets; employment tenure; employee grade and series; occupational series.

Authority for Maintenance of the System:

Inspector General Act of 1978, 5 U.S.C. App. 3; Foreign Service Act of 1980, as amended (22 U.S.C. 3901).

Routine Uses of Records Maintained in the System, including categories of users and the purposes of such uses:

The information in the OIG Timesheet System may be used: (a) By the subject of the record to review time spent by the subject on projects, training, and other activities; (b) By OIG management to generate reports and analysis of the time and costs spent on projects, training, and management. Also see the “Routine Uses” paragraph of the Prefatory Statement published in the Federal Register.

Policies and Practices for Storing, Retrieving, Accessing, Retaining and disposing of records in the system:

Storage:

Electronic Media.

Retrievability:

By individual name or by project, as well as by each of the data items listed as a category of record in this description.

Safeguards:

All employees of the Department of State have undergone background investigations. Access to the Department and its annexes is controlled and limited to those individuals possessing a valid identity card or individuals with a proper escort. All records containing personal information are maintained in secured file cabinets or in restricted areas, access to which is limited to authorized personnel. Access to computerized files is password protected under the direct supervision of the system manager. The system manager has the capability of printing audit trails of access from the computer media, thereby permitting regular and ad hoc monitoring of computer usage.

Retention and Disposal:

These records will be maintained until they become inactive at which time they will be retired or destroyed in accordance with published records schedules of the Department of State and as approved by the National Archives and Records Administration. More specific information may be obtained by writing to Director, Office of IRM Programs and Services; A/RPS/IPS; U.S. Department of State, SA-2; Washington, DC 20522-6001.

System Manager(s) and Address:

Director of Administration, U.S. Department of State, Office of Inspector General, 1700 North Moore St., Suite # 720, Rosslyn, VA 22209.

Notification Procedure:

Individuals who have reason to believe that the OIG Timesheet System might contain records pertaining to them should write to the Information and Privacy Coordinator, Office of Inspector General, Department of State, Room 6817, 2201 C Street, NW., Washington, DC, 20520. The individual must specify that he/she wishes the records of the OIG Timesheet System to be checked. At a minimum, the individual must include: date and place of birth; approximate dates of employment with Department of State's OIG; current mailing address and zip code; signature; and, preferably, his/her social security number.

Record Access and Amendment Procedures:

Individuals who wish to gain access to or amend records pertaining to themselves should write to the Information and Privacy Coordinator, Office of Inspector General, Department of State (address above).

Record source categories:

These records contain employee information obtained directly from the individual who is the subject of these records. The records also contain grade, position, and salary information from the OIG's Office of Human Resources that is generated using the employee's identification number from the Global Employee Management System (GEMS).

Systems exempted from certain provisions of the act:

None.

Dated: September 13, 2002.
Clark Kent Ervin,
Inspector General, Department of State.

[FR Doc. 02-23981 Filed 9-24-02; 8:45 am]

BILLING CODE 4710-42-P